FEDERAL MARITIME COMMISSION

Sunshine Act; Meeting

Agency Holding the Meeting: Federal Maritime Commission.

Time and Date: March 11, 2009-10 a.m.

Place: 800 North Capitol Street, NW., First Floor Hearing Room, Washington, DC.

Status: A portion of the meeting will be in Open Session and the remainder of the meeting will be in Closed Session.

Matters To Be Considered:

Open Session

1. Docket No. 02-15 Passenger Vessel Financial Responsibility—Request of Commissioner Brennan.

2. Anderson International Transport and Owen Anderson, et al.—Order of Investigation and Hearing—Request for Extension of Time.

3. FY 2008 Federal Human Capital Survey Results—Interpretation of Results & Trends Closed Session.

4. Internal Administrative Practices and Personnel Matters.

Contact Person for More Information: Karen V. Gregory, Secretary, (202) 523-5725.

Karen V. Gregory,
Secretary.

[FR Doc. E9-4949 Filed 3-4-09; 4:15 pm]

BILLING CODE 6730-01-P